DEPARTMENT OF TRANSPORTATION

Office of the Secretary

Notice of Applications for Certificates of Public Convenience and Necessity and Foreign Air Carrier Permits Filed Under Subpart B (Formerly Subpart Q) During the Week Ending March 11, 2005

The following Applications for Certificates of Public Convenience and Necessity and Foreign Air Carrier Permits were filed under subpart B (formerly subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19850.

Date Filed: March 11, 2005.

Due Date for Answers, Conforming Applications, or Motion to Modify Scope: April 1, 2005.

Description: Application of Air Comet S.A., requesting that its foreign air carrier permit be renewed and amended to include authority to engage in scheduled foreign air transportation between Spain and New York.

Renee V. Wright,
Acting Program Manager, Docket Operations, Alternate Federal Register Liaison.

[FR Doc. 05-5854 Filed 3-23-05; 8:45 am]

BILLING CODE 4910-62-P